DEPARTMENT OF HOMELAND SECURITY

Federal Emergency Management Agency

44 CFR Part 67

[Docket ID FEMA-2010-0003; Internal Agency Docket No. FEMA-B-1140]

Proposed Flood Elevation Determinations

Correction

In proposed rule document 2010-24370 beginning on page 60013 in the issue of Wednesday, September 28, 2010, make the following corrections:

§67.4 [Corrected]

1. On page 60015, in § 67.4, the second table on that page is corrected to have a centered heading above the row of that table whose first column entry reads “Yellowstone River”, which should read “Park County, Montana, and Incorporated Areas”.

2. On page 60016, in § 67.4, in the second table on that page, is corrected to have a centered heading above the row of that table whose first column entry reads “Armstrong Creek”, which should read “Ellis County, Texas, and Incorporated Areas”.

[FR Doc. C1-2010-24370 Filed 10-12-10; 8:45 am]

BILLING CODE 1505-01-D